COMMISSION ON CIVIL RIGHTS

Agenda and Notice of Public Meeting of the California Advisory Committee

Notice is hereby given, pursuant to the provisions of the rules and regulations of the U.S. Commission on Civil Rights (Commission) and the Federal Advisory Committee Act (FACA) that the California Advisory Committee (Committee) to the Commission will meet on Monday, December 5, 2011. The first meeting of the Committee will begin at 1 p.m. and adjourn about 2 p.m.; the purpose of the first meeting is member orientation and discussion of administrative matters. The second meeting will begin at approximately 2 p.m. and adjourn at about 4 p.m.; the purpose of the second meeting is a discussion of the Committee's report on free speech on California public college and university campuses. The meetings will be held at the Mexican American Legal Defense and Education Fund (MALDEF), 634 South Spring Street, 11th Floor, Los Angeles CA 90014.

Members of the public are entitled to submit written comments. The comments must be received in the Western Regional Office of the Commission by January 5, 2012. The address is Western Regional Office, U.S. Commission on Civil Rights, 300 N. Los Angeles Street, Suite 2010, Los Angeles, CA 90012. Persons wishing to email their comments, or to present their comments verbally at the meeting, or who desire additional information should contact Angelica Trevino, Office Manager, Western Regional Office, at (213) 894-3437, (or for hearing impaired TDD (913) 551-1414), or by email to atrevino@usccr.gov. Hearing-impaired persons who will attend the meeting and require the services of a sign language interpreter should contact the Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above email or street address. The meeting will be conducted pursuant to the provisions of the rules and regulations of the Commission and FACA.

Dated in Washington, DC, November 8, 2011.
Peter Minarik,
Acting Chief, Regional Programs Coordination Unit.

[FR Doc. 2011-29346 Filed 11-14-11; 8:45 am]

BILLING CODE 6335-01-P